DEPARTMENT OF LABOR

Employment and Training Administration

Solicitation for Grant Applications (SGA); Community-Based Job Training Grants Correction

AGENCY: Employment and Training Administration (ETA), Labor.

ACTION: Notice; correction and supplemental information.

SUMMARY: The Employment and Training Administration published a document in the Federal Register on July 3, 2006, concerning the availability of grant funds to support workforce training for high-growth/high-demand industries through the national system of community and technical colleges. This correction is to explain how One-Stop Career Center applicants must apply and to provide additional clarification regarding direct training costs, tuition payments, and the leveraging of Workforce Investment Act resources.

FOR FURTHER INFORMATION CONTACT: Kevin Brumback, Grants Management Specialist, Division of Federal Assistance, (202) 693-3381.

Corrections

In the Federal Register of July 3, 2006, in FR Volume 71, Number 127: On Page 37953, in the third column, Section III(A)(4) is corrected to read:

4. One-Stop Career Centers, as established under Section 121 of the Workforce Investment Act of 1998 (Pub. L. 105-220). The eligible applicant for One-Stop Career Centers is the One-Stop Operator, as defined under Section 121 of the Workforce Investment Act of 1998 (Pub. L. 105-220), on behalf of the One-Stop Career Center. The applicant must: (1) Have a letter of concurrence from all signatories to the One-Stop Career Center Memorandum of Understanding, including the Local Workforce Investment Board (WIB) and all mandatory partners, as specified in Section 121 of the Workforce Investment Act of 1998; (2) demonstrate that the proposed activities are consistent with the state strategic Workforce Investment Act plan; and (3) demonstrate that the Local Workforce Investment Board, or its designated fiscal agent, will serve as the fiscal agent for the grant. The Workforce Investment Board's support and involvement in the project should be detailed in the letter of concurrence, which should also address the above requirements (2) and (3). The WIB may also address above requirements 2 and 3 in a separate letter of concurrence. Applications from One-Stop Career Centers without a letter of concurrence from the One-Stop Career Center partners will be considered non-responsive. One-Stop Career Center applications must specify one or more community college(s) where all capacity building and training activities will occur under the grant.

On page 37955, Section III(C), in the first column, is corrected to add:

7. Re-designation of One-Stop Operators. If at any time, the applicant One-Stop Operator changes, then the One-Stop partners may amend their application, on behalf of the One-Stop Career Center, for the purpose of designating a new One-Stop Operator.

SUPPLEMENTARY INFORMATION:

(1) Clarification of the Intent of Behind the Requirement That a Component of All Applications Be Direct Training Costs That Allow Participants, Without Tuition Payments, To Be Enrolled in the Training Program (71 FR 37948 (July 3, 2006) pages 37954.)

ETA's intent with this condition is that grantees do not “double dip” by charging tuition AND direct training costs from the grant for the same enrollee. It is ETA's expectation that the grant will cover the direct training costs for a substantive number of targeted students and that those students would not be charged tuition. Grantees must identify and track the number of individuals trained using grant dollars as well as the number of individuals trained using leveraged resources.

The SGA requires that each project include a component of direct training. Traditionally, institutions of higher education charge a per-credit hour tuition to cover these costs. ETA intends that students participating in the direct training component of the project not be required to pay costs already covered by the grant. Applicants may recoup the costs of the direct training component in two ways: (1) charging the grant the normal tuition rate for the course or (2) charging the actual direct and indirect costs of the course. If the applicants choose to recoup the costs through tuition charged to the grant, they may also charge the grant for the non-tuition costs of attending the course such as lab fees or books.

For the targeted number of students to be trained with leveraged resources, direct training may be leveraged with Department of Education PELL grants, WIA training funds, and other cash sources. Also, these leveraged resources may also cover the non-tuition costs of attending the course such as lab fees or books.

In addition, the capacity building component of the grant may enable students beyond those targeted for training under the grant to access training at the college. The college may charge those students tuition. In these instances, applicants should estimate the impact of this capacity building activity by projecting the numbers of students that will be trained in addition to those targeted for training under the grant and/or leveraged resources.

For reference, direct training costs are the costs associated with the actual provision of a training course as opposed to the capacity building costs associated with the development of training capabilities or curriculums. Direct training costs may include (please note that this is not an exhaustive list):

• Faculty costs, including salaries and fringe benefits

• In-house training staff

• Support staff costs such as lab or teaching assistants

• Classroom space, including laboratories, mock-ups or other facilities used for training purposes

• Books, materials, and supplies used in the training course, including specialized equipment used in the training course

Direct training costs do not include costs that support the college in general, but not the training program, such as fees to support student activities, the library, gym or recreation center, etc, which may be covered through some other mechanism, such as student fees. Indirect training costs may include the applicable share of the Institution's indirect costs (overhead) and library or other student activity fees associated with the operation of the Institution. Both direct and indirect training costs must be allowable costs under the applicable OMB circular. All direct and indirect training costs should be linked to a specific course or curriculum as specified in the proposal or the statement of work.

(2) Clarification of Intent Behind the 5 Bonus Points for Leveraging Workforce Investment Act Resources (71 FR 37948 (July 3, 2006), pages 37951 and 37958.)

The application currently states: “Applications that demonstrate the use of Workforce Investment Act (WIA) funds for Individual Training Accounts, the pilot of Career Advancement Accounts, or for customized training to cover the tuition costs for the CBJTG training program for eligible new or incumbent workers, will receive 5 bonus points,” 71 FR 37948 (July 3, 2006). ETA's intent behind this criterion is to award bonus points to applications that demonstrate integration of WIA training funds into grant activities. Examples of WIA training funds include Individual Training Accounts, customized training, and Career Advancement Accounts. Applications that demonstrate the use of WIA training funds, whether through ITAs, customized training, or CAAs, will receive 5 bonus points. This does not change what is allowed for applications to receive bonus points, but is a clarification of the intent of bonus points being for use of WIA training funds generally, not just ITA's, CAA's, or customized training, to cover the tuition costs for eligible new or incumbent workers.

Career Advancement Accounts (CAAs) have been proposed in the President's Fiscal Year 2007 budget; however ETA recognizes that some states may be piloting CAAs in advance of the FY 2007 budget, which is why they are included in the list of programs utilizing WIA training funds.

Dated: August 2, 2006.
Signed at Washington, DC, this 2nd day of August, 2006.
Laura P. Watson,
Division Chief, Division of Federal Assistance.

[FR Doc. E6-12763 Filed 8-3-06; 8:45 am]

BILLING CODE 4510-30-P